DEPARTMENT OF TRANSPORTATION

Federal Aviation Administration

14 CFR Part 39

[Docket No. FAA-2015-3988; Directorate Identifier 2015-NM-005-AD; Amendment 39-18491; AD 2016-08-15]

RIN 2120-AA64

Airworthiness Directives; Bombardier, Inc. Airplanes

AGENCY: Federal Aviation Administration (FAA), Department of Transportation (DOT).

ACTION: Final rule.

SUMMARY: We are superseding Airworthiness Directive (AD) 2014-17-51 for certain Bombardier, Inc. Model CL-600-2B16 airplanes. AD 2014-17-51 required inspecting the inboard flap fasteners of the hinge-box forward fitting at Wing Station (WS) 76.50 and WS 127.25 to determine the orientation and condition of the fasteners, as applicable, and replacement or repetitive inspections of the fasteners if necessary. AD 2014-17-51 also provided for optional terminating action for the requirements of that AD. This new AD requires accomplishment of the previously optional terminating action. This AD was prompted by a determination that that additional action is necessary. We are issuing this AD to detect and correct incorrectly oriented or fractured fasteners, that could result in premature failure of the fasteners attaching the inboard flap hinge-box forward fitting; failure of the fasteners could lead to the detachment of the flap hinge box and the flap surface, and consequent loss of control of the airplane.

DATES: This AD is effective June 6, 2016.

The Director of the Federal Register approved the incorporation by reference of certain publications listed in this AD as of June 6, 2016.

The Director of the Federal Register approved the incorporation by reference of certain other publications listed in this AD as of November 12, 2014 (79 FR 64088, October 28, 2014).

The Director of the Federal Register approved the incorporation by reference of certain other publications listed in this AD as of March 6, 2014 (79 FR 9389, February 19, 2014).

ADDRESSES: For service information identified in this final rule, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221. It is also available on the Internet at http://www.regulations.gov by searching for and locating Docket No. FAA-2015-3988.

Examining the AD Docket

You may examine the AD docket on the Internet at http://www.regulations.gov by searching for and locating Docket No. FAA-2015-3988; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Aziz Ahmed, Aerospace Engineer, Propulsion and Services Branch, ANE-173, FAA, New York Aircraft Certification Office (ACO), 1600 Stewart Avenue, Suite 410, Westbury, NY 11590; telephone 516-228-7329; fax 516-794-5531.

SUPPLEMENTARY INFORMATION:

Discussion

We issued a notice of proposed rulemaking (NPRM) to amend 14 CFR part 39 to supersede AD 2014-17-51, Amendment 39-17999 (79 FR 64088, October 28, 2014) (“AD 2014-17-51”). AD 2014-17-51 applied to certain Bombardier, Inc. Model CL-600-2B16 airplanes. The NPRM published in the Federal Register on October 19, 2015 (80 FR 63141) (“the NPRM”).

Transport Canada Civil Aviation (TCCA), which is the aviation authority for Canada, has issued Canadian Airworthiness Directive CF-2014-27R1, dated August 29, 2014 (referred to after this as the Mandatory Continuing Airworthiness Information, or “the MCAI”), to correct an unsafe condition for certain Bombardier, Inc. Model CL-600-2B16 airplanes. The MCAI states:

There have been three in-service reports on 604 Variant aeroplanes of a fractured fastener head on the inboard flap hinge-box forward fitting at Wing Station (WS) 76.50, found during a routine maintenance inspection. Investigation revealed that the installation of these fasteners on the inboard flap hinge-box forward fittings at WS 76.50 and WS 127.25, on both wings, does not conform to the engineering drawings. Incorrect installation may result in premature failure of the fasteners attaching the inboard flap hinge-box forward fitting. Failure of the fasteners could lead to the detachment of the flap hinge box and consequently the detachment of the flap surface. The loss of a flap surface could adversely affect the continued safe operation of the aeroplane.

The original issue of [Canadian] AD CF-2013-39 [http://www.regulations.gov/#!documentDetail;D=FAA-2014-0054-0002] [which corresponds to FAA AD 2014-03-17, Amendment 39-17754 (79 FR 9389, February 19, 2014)] mandated a detailed visual inspection (DVI) of each inboard flap hinge-box forward fitting, on both wings, and rectification as required. Incorrectly oriented fasteners require repetitive inspections until the terminating action is accomplished.

After the issuance of [Canadian] AD CF-2013-39, there has been one reported incident on a 604 Variant aeroplane where four fasteners were found fractured on the same flap hinge-box forward fitting. The investigation determined that the fasteners were incorrectly installed.

The original issue of this [Canadian] AD was issued to reduce the initial and repetitive inspection intervals previously mandated in [Canadian] AD CF-2013-39, and to impose replacement of the incorrectly oriented fasteners within 24 months. The CL-600-1A11, -2A12 and -2B16 (601-3A/-3R Variant) aeroplanes are addressed through [Canadian] AD CF-2013-39R1.

Revision 1 of this [Canadian] AD is issued to clarify the requirements for the initial and repetitive inspections.

You may examine the MCAI in the AD docket on the Internet at http://www.regulations.gov by searching for and locating Docket No. FAA-2015-3988.

Comments

We gave the public the opportunity to participate in developing this AD. We received no comments on the NPRM or on the determination of the cost to the public.

Change to Paragraph (k) of This AD

Paragraph (k) of the NPRM specified to do the replacement on “both” wings. However, the replacement only needs to be done on the affected wing on which incorrectly oriented fasteners were found but none were found to be fractured. We have revised paragraph (k) of this AD to specify accomplishing the replacement on the affected wings. We have coordinated this change with TCCA.

Conclusion

We reviewed the relevant data and determined that air safety and the public interest require adopting this AD with the change described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Bombardier has issued Alert Service Bulletins:

• A604-57-006, Revision 04, dated November 12, 2014, including Appendices 1 and 2, dated September 26, 2013; and

• A605-57-004, Revision 04, dated November 12, 2014, including Appendices 1 and 2, dated September 26, 2013.

The service information describes repetitive detailed visual inspections of each inboard flap fastener of the hinge-box forward fitting at WS 76.50 and WS 127.25, on both wings, and, if necessary, replacement of the fasteners. This service information is reasonably available because the interested parties have access to it through their normal course of business or by the means identified in the ADDRESSES section.

Costs of Compliance

We estimate that this AD affects 285 airplanes of U.S. registry.

The actions required by AD 2014-17-51, and retained in this AD take about 1 work-hour per product, at an average labor rate of $85 per work-hour. Required parts cost about $0 per product. Based on these figures, the estimated cost of the actions that are required by AD 2014-17-51 is $85 per product.

We also estimate that it will take about 58 work-hours per product to comply with the basic requirements of this AD. The average labor rate is $85 per work-hour. Required parts cost about $753 per product. Based on these figures, we estimate the cost of this AD on U.S. operators to be $1,619,655, or $5,683 per product.

In addition, we estimate that any necessary follow-on actions will take about 58 work-hours and require parts costing $753, for a cost of $5,683 per product. We have no way of determining the number of aircraft that might need this action.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-17-51, Amendment 39-17999 (79 FR 64088, October 28, 2014), and adding the following new AD:

2016-08-15 Bombardier, Inc.: Amendment 39-18491. Docket No. FAA-2015-3988; Directorate Identifier 2015-NM-005-AD.

(a) Effective Date

This AD is effective June 6, 2016.

(b) Affected ADs

(1) This AD replaces AD 2014-17-51, Amendment 39-17999 (79 FR 64088, October 28, 2014) (“AD 2014-17-51”).

(2) This AD affects AD 2014-03-17, Amendment 39-17754 (79 FR 9389, February 19, 2014) (“AD 2014-03-17”), only for the airplanes identified in paragraph (c) of this AD.

(c) Applicability

This AD applies to Bombardier, Inc. Model CL-600-2B16 airplanes, certificated in any category, serial numbers 5301 through 5665 inclusive, and 5701 through 5920 inclusive.

(d) Subject

Air Transport Association (ATA) of America Code 57, Wings.

(e) Reason

This AD was prompted by reports of fractured fastener heads on the inboard flap hinge-box forward fitting at Wing Station (WS) 76.50 due to incorrect installation. We are issuing this AD to detect and correct incorrectly oriented or fractured fasteners, that could result in premature failure of the fasteners attaching the inboard flap hinge-box forward fitting; failure of the fasteners could lead to the detachment of the flap hinge box and the flap surface, and consequent loss of control of the airplane.

(f) Compliance

Comply with this AD within the compliance times specified, unless already done.

(g) Retained Inspection, With New Service Information: Airplanes Not Previously Inspected

This paragraph restates the requirements of paragraph (g) of AD 2014-17-51, with new service information. For airplanes on which the actions required by AD 2014-03-17 have not been done as of November 12, 2014 (the effective date of AD 2014-17-51): Within 10 flight cycles after November 12, 2014, or within 100 flight cycles after March 6, 2014 (the effective date of AD 2014-03-17), whichever occurs first, do a detailed visual inspection of each inboard flap fastener of the hinge-box forward fitting at WS 76.50 and WS 127.25, on both wings, to determine if the fasteners are correctly oriented and intact (non-fractured, with intact fastener head). Do the inspection in accordance with the Accomplishment Instructions of Bombardier Alert Service Bulletin A604-57-006, Revision 01, dated September 26, 2013, including Appendices 1 and 2, dated September 26, 2013, Revision 02, dated January 22, 2014, including Appendices 1 and 2, dated September 26, 2013, or Revision 04, dated November 12, 2014, including Appendices 1 and 2, dated September 26, 2013 (for serial numbers 5301 through 5665 inclusive); or Bombardier Alert Service Bulletin A605-57-004, Revision 01, dated September 26, 2013, including Appendices 1 and 2, dated September 26, 2013, Revision 02, dated January 22, 2014, including Appendices 1 and 2, dated September 26, 2013, or Revision 04, dated November 12, 2014, including Appendices 1 and 2, dated September 26, 2013 (for serial numbers 5701 through 5920 inclusive). As of the effective date of this AD, only use Bombardier Alert Service Bulletin A604-57-006, Revision 04, dated November 12, 2014, including Appendices 1 and 2, dated September 26, 2013; or Bombardier Alert Service Bulletin A605-57-004, Revision 04, dated November 12, 2014, including Appendices 1 and 2, dated September 26, 2013; as applicable; for the actions required by this paragraph.

(1) If all fasteners are found intact and correctly oriented, no further action is required by this AD.

(2) If any fastener is found fractured: Before further flight, remove and replace all forward and aft fasteners at WS 76.50 and WS 127.25, regardless of condition or orientation, on both wings, in accordance with the Accomplishment Instructions of the applicable service information identified in paragraph (g) of this AD. As of the effective date of this AD, only use Bombardier Alert Service Bulletin A604-57-006, Revision 04, dated November 12, 2014, including Appendices 1 and 2, dated September 26, 2013; or Bombardier Alert Service Bulletin A605-57-004, Revision 04, dated November 12, 2014, including Appendices 1 and 2, dated September 26, 2013; as applicable; for the actions required by this paragraph. After replacement of all fasteners as required by this paragraph of this AD, no further action is required by this AD.

(3) If any incorrectly oriented but intact fastener is found, and no fractured fastener is found, repeat the inspection required by paragraph (g) of this AD thereafter at intervals not to exceed 10 flight cycles, until the requirements of paragraph (i)(1) or (k) of this AD have been done.

(h) Retained Actions, With New Service Information: Airplanes Previously Inspected, Having Incorrectly Oriented Fastener(s)

This paragraph restates the requirements of paragraph (h) of AD 2014-17-51, with new service information. For airplanes on which an inspection required by paragraph (g) or (j) of AD 2014-03-17 has been done as of November 12, 2014 (the effective date of AD 2014-17-51), and on which any incorrectly oriented fastener, but no fractured fastener, was found: Except as provided by paragraph (i)(3) of this AD, do a detailed visual inspection of all inboard flap fasteners of the hinge-box forward fitting at WS 76.50 and WS 127.25, on both wings, to determine if the fasteners are intact (non-fractured, with intact fastener head). Inspect within 10 flight cycles after November 12, 2014, or within 100 flight cycles after the most recent inspection done as required by AD 2014-03-17, whichever occurs first. Inspect in accordance with the Accomplishment Instructions of the applicable service information identified in paragraph (g) of this AD. As of the effective date of this AD, only use Bombardier Alert Service Bulletin A604-57-006, Revision 04, dated November 12, 2014, including Appendices 1 and 2, dated September 26, 2013; or Bombardier Alert Service Bulletin A605-57-004, Revision 04, dated November 12, 2014, including Appendices 1 and 2, dated September 26, 2013; as applicable; for the actions required by this paragraph.

(1) If all fasteners are found intact, repeat the inspection thereafter at intervals not to exceed 10 flight cycles, until the requirements of paragraph (i)(1) or (k) of this AD have been done.

(2) If any fastener is found fractured: Before further flight, remove and replace all forward and aft fasteners at WS 76.50 and WS 127.25, regardless of condition or orientation, on both wings, in accordance with the Accomplishment Instructions of the applicable service information identified in paragraph (g) of this AD. As of the effective date of this AD, only use Bombardier Alert Service Bulletin A604-57-006, Revision 04, dated November 12, 2014, including Appendices 1 and 2, dated September 26, 2013; or Bombardier Alert Service Bulletin A605-57-004, Revision 04, dated November 12, 2014, including Appendices 1 and 2, dated September 26, 2013; as applicable; for the actions required by this paragraph. After replacement of all fasteners as required by this paragraph, no further action is required by this AD.

(i) Retained Terminating Action, With New Service Information

This paragraph restates the terminating action specified in paragraph (i) of AD 2014-17-51), with new service information.

(1) Replacement of all forward and aft fasteners at WS 76.50 and WS 127.25, on both wings, in accordance with the Accomplishment Instructions of the applicable service information identified in paragraph (g) of this AD, terminates the requirements of this AD. As of the effective date of this AD, only use Bombardier Alert Service Bulletin A604-57-006, Revision 04, dated November 12, 2014, including Appendices 1 and 2, dated September 26, 2013; or Bombardier Alert Service Bulletin A605-57-004, Revision 04, dated November 12, 2014, including Appendices 1 and 2, dated September 26, 2013; as applicable; for the actions specified in this paragraph.

(2) Accomplishment of the applicable requirements of this AD constitutes terminating action for the requirements of AD 2014-03-17 for that airplane only.

(3) Replacement of all fractured and incorrectly oriented fasteners before November 12, 2014 (the effective date of AD 2014-17-51), as provided by paragraph (i) or (k) of AD 2014-03-17, is acceptable for compliance with the requirements of this AD.

(j) Retained Special Flight Permit Prohibition

This paragraph restates the requirements of paragraph (j) of AD 2014-17-51. Special flight permits to operate the airplane to a location where the airplane can be repaired in accordance with 14 CFR 21.197 and 21.199 are not allowed.

(k) New Requirement of This AD: Post-Inspection Fastener Replacement

For airplanes on which incorrectly oriented fasteners were found during any inspection required by paragraph (g), (g)(3), (h), or (h)(1) of this AD, but none were found to be fractured: Within 24 months after the effective date of this AD, remove and replace all forward and aft fasteners at WS 76.50 and WS 127.25, regardless of condition or orientation, on affected wings, in accordance with the Accomplishment Instructions of Bombardier Alert Service Bulletin A604-57-006, Revision 04, dated November 12, 2014, including Appendices 1 and 2, dated September 26, 2013 (for serial numbers 5301 through 5665 inclusive); or Bombardier Alert Service Bulletin A605-57-004, Revision 04, dated November 12, 2014, including Appendices 1 and 2, dated September 26, 2013 (for serial numbers 5701 through 5920 inclusive). Accomplishing the requirements of this paragraph terminates the requirements of this AD.

(l) Credit for Previous Actions

(1) This paragraph provides credit for actions required by paragraphs (g), (h), and (i)(1) of this AD, if those actions were performed before the effective date of this AD using the applicable service information identified in paragraphs (l)(1)(i) and (l)(1)(ii) of this AD, which are not incorporated by reference in this AD.

(i) Bombardier Alert Service Bulletin A604-57-006, Revision 03, dated August 19, 2014, including Appendices 1 and 2, dated September 26, 2013.

(ii) Bombardier Alert Service Bulletin A605-57-004, Revision 03, dated August 19, 2014, including Appendices 1 and 2, dated September 26, 2013.

(2) This paragraph provides credit for actions required by paragraph (k) of this AD, if those actions were done before the effective date of this AD using the applicable service information identified in paragraphs (l)(2)(i) through (l)(2)(iv) of this AD.

(i) Bombardier Alert Service Bulletin A604-57-006, Revision 01, dated September 26, 2013, including Appendices 1 and 2, dated September 26, 2013, which is incorporated by reference in AD 2014-03-17.

(ii) Bombardier Alert Service Bulletin A604-57-006, Revision 02, dated January 22, 2014, including Appendices 1 and 2, dated September 26, 2013, which was incorporated by reference in AD 2014-17-51.

(iii) Bombardier Alert Service Bulletin A605-57-004, Revision 01, dated September 26, 2013, including Appendices 1 and 2, dated September 26, 2013, which is incorporated by reference in AD 2014-03-17.

(iv) Bombardier Alert Service Bulletin A604-57-004, Revision 02, dated January 22, 2014, including Appendices 1 and 2, dated September 26, 2013, which was incorporated by reference in AD 2014-17-51.

(m) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531.

(i) Before using any approved AMOC, notify your appropriate principal inspector, or lacking a principal inspector, the manager of the local flight standards district office/certificate holding district office. The AMOC approval letter must specifically reference this AD.

(ii) AMOCs previously approved for AD 2014-17-51 are acceptable for the corresponding requirements of this AD.

(2) Contacting the Manufacturer: As of the effective date of this AD, for any requirement in this AD to obtain corrective actions from a manufacturer, the action must be accomplished using a method approved by the Manager, New York ACO, ANE-170, Engine and Propeller Directorate, FAA; or Transport Canada Civil Aviation (TCCA); or Bombardier, Inc.'s TCCA Design Approval Organization (DAO). If approved by the DAO, the approval must include the DAO-authorized signature.

(n) Related Information

(1) Refer to Mandatory Continuing Airworthiness Information (MCAI) Canadian Emergency Airworthiness Directive CF-2014-27R1, dated August 29, 2014, for related information. This MCAI may be found in the AD docket on the Internet at http://www.regulations.gov by searching for and locating Docket No. FAA-2015-3988.

(2) Service information identified in this AD that is not incorporated by reference is available at the addresses specified in paragraphs (o)(6) and (o)(7) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on June 6, 2016.

(i) Bombardier Alert Service Bulletin A604-57-006, Revision 04, dated November 12, 2014, including Appendices 1 and 2, dated September 26, 2013.

(ii) Bombardier Alert Service Bulletin A605-57-004, Revision 04, dated November 12, 2014, including Appendices 1 and 2, dated September 26, 2013.

(4) The following service information was approved for IBR on November 12, 2014 (79 FR 64088, October 28, 2014).

(i) Bombardier Alert Service Bulletin A604-57-006, Revision 02, dated January 22, 2014, including Appendices 1 and 2, dated September 26, 2013.

(ii) Bombardier Alert Service Bulletin A605-57-004, Revision 02, dated January 22, 2014, including Appendices 1 and 2, dated September 26, 2013.

(5) The following service information was approved for IBR on March 6, 2014 (79 FR 9389, February 19, 2014).

(i) Bombardier Alert Service Bulletin A604-57-006, Revision 01, dated September 26, 2013, including Appendices 1 and 2, dated September 26, 2013.

(ii) Bombardier Alert Service Bulletin A605-57-004, Revision 01, dated September 26, 2013, including Appendices 1 and 2, dated September 26, 2013.

(6) For service information identified in this AD, contact Bombardier, Inc., 400 Côte Vertu Road West, Dorval, Québec H4S 1Y9, Canada; telephone 514-855-5000; fax 514-855-7401; email thd.crj@aero.bombardier.com; Internet http://www.bombardier.com.

(7) You may view this service information at the FAA, Transport Airplane Directorate, 1601 Lind Avenue SW., Renton, WA. For information on the availability of this material at the FAA, call 425-227-1221.

(8) You may view this service information that is incorporated by reference at the National Archives and Records Administration (NARA). For information on the availability of this material at NARA, call 202-741-6030, or go to: http://www.archives.gov/federal-register/cfr/ibr-locations.html.

Issued in Renton, Washington, on April 8, 2016.
Michael Kaszycki,
Acting Manager, Transport Airplane Directorate, Aircraft Certification Service.

[FR Doc. 2016-08959 Filed 4-29-16; 8:45 am]

BILLING CODE 4910-13-P